FEDERAL ELECTION COMMISSION

Sunshine Act Notice

AGENCY: Federal Election Commission.

Date and Time: Wednesday, February 24, 2010, at 11:30 a.m.

Place: 999 E Street, NW., Washington, DC.

Status: This meeting will be closed to the public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

DATE AND TIME: Thursday, February 25, 2010, at 10 a.m.

Place: 999 E Street, NW., Washington, DC (Ninth Floor).

STATUS: This meeting will be open to the public.

Items To Be Discussed

Correction and Approval of Minutes.

Notice of Proposed Rulemaking on FEC Standards of Conduct.

Draft Advisory Opinion 2010-01: Nevada State Democratic Party by its counsel, Marc E. Elias and Graham M. Wilson.

Management and Administrative Matters.

Individuals who plan to attend and require special assistance, such as sign language interpretation or other reasonable accommodations, should contact Darlene Harris, Acting Commission Secretary, at (202) 694-1040, at least 72 hours prior to the hearing date.

Person To Contact For Information: Judith Ingram, Press Officer, Telephone: (202) 694-1220.

Signed:
Darlene Harris,
Acting Secretary of the Commission.

[FR Doc. 2010-3589 Filed 2-24-10; 8:45 am]

BILLING CODE 6715-01-M